DEPARTMENT OF DEFENSE

Department of the Army, Corps of Engineers

ENVIRONMENTAL PROTECTION AGENCY

[EPA-HQ-OW-2013-0820; 9908-97-OW]

Notice of Availability Regarding the Exemption From Permitting Under Section 404(f)(1)(A) of the Clean Water Act to Certain Agricultural Conservation Practices

AGENCIES: U.S. Army Corps of Engineers (Corps), Department of the Army, Department of Defense, and the Environmental Protection Agency (EPA).

ACTION: Notice of availability and public comment.

SUMMARY: The U.S. Environmental Protection Agency (EPA) and the U.S. Army Corps of Engineers (Corps) are announcing the availability of an interpretive rule to address the exemption from permitting provided under section 404(f)(1)(A) of the Clean Water Act (CWA) for discharges of dredged or fill material associated with certain agricultural conservation practices based on the Natural Resources Conservation Service (NRCS) conservation practice standards that are designed and implemented to protect and enhance water quality. While the interpretive rule is already in effect, the agencies recognize the importance and value of receiving public input on the implementation of this interpretive rule and welcome comments in response to this notice within the next 45 days.

DATES: Submit comments on or before June 5, 2014.

ADDRESSES: The interpretive rule, as well as a list of NRCS practices that meet the exemption, are available via the Internet on the EPA Web site: http://water.epa.gov/lawsregs/guidance/wetlands/agriculture.cfm. EPA has established a docket for this action under Docket ID No. EPA-HQ-OW-2013-0820. Publicly available docket materials are available either electronically through www.regulations.gov or in hard copy at the Water Docket, EPA Docket Center, EPA West, Room 3334, 1301 Constitution Ave. NW., Washington, DC, Monday through Friday, excluding legal holidays. The Public Reading Room is open from 8:30 a.m. to 4:30 p.m., Monday through Friday, excluding legal holidays. The telephone number for the Public Reading Room is 202-566-1744, and the telephone number for the Water Docket is 202-566-2426.

FOR FURTHER INFORMATION CONTACT: Ms. Damaris Christensen, Office of Water (4502-T), Environmental Protection Agency, 1200 Pennsylvania Avenue NW., Washington, DC 20460; telephone number 202-564-2442; email address: Wetlands-HQ@epa.gov or Mr. Chip Smith, Office of the Deputy Assistant Secretary of the Army (Policy and Legislation), 108 Army Pentagon, Washington, DC 22310; telephone number 703-697-4672; USACE_CWA_RULE@usace.army.mil or Ms. Stacey Jensen, Regulatory Community of Practice (CECW-CO-R), U.S. Army Corps of Engineers, 441 G Street NW., Washington, DC 20314; telephone number 202-761-5856; email address: USACE_CWA_RULE@usace.army.mil.

SUPPLEMENTARY INFORMATION:

I. Information About the Document

Section 404(f)(1)(A) of the CWA exempts from section 404 permit requirements certain discharges associated with normal farming, silviculture, and ranching activities in “waters of the United States,” including wetlands. To provide additional clarity to farmers and to promote practices under the Agriculture Act of 2014 designed to improve water quality, the EPA and the Corps have signed an interpretive rule, “Interpretive Rule Regarding Applicability of the Exemption from Permitting under Section 404(f)(1)(A) of the Clean Water Act to Certain Agricultural Conservation Practices.” The interpretive rule was developed in coordination with the U.S. Department of Agriculture.

The agencies believe working together to improve the consistency and integration of these programs is fully consistent with the law, promotes the mutual objectives of our regulations and statutes, and increases clarity and predictability for the agriculture community. The result is good for the nation's waters and for farmers and foresters who want to protect the resources on their lands.

The agencies have identified specific NRCS agricultural conservation practices that are appropriately considered “normal farming” activities and exempt from permitting under section 404(f)(1)(A). The agencies and NRCS have also entered into a Memorandum of Understanding to guide their future coordination on the exemption. The list of practices, the Memorandum of Understanding, and the interpretive rule are available on the EPA Web site at http://water.epa.gov/lawsregs/guidance/wetlands/agriculture.cfm and in the docket for this notice. The agencies seek comment on these documents within the next 45 days. The agencies and NRCS intend to periodically revisit and revise, if necessary, the list of exempt NRCS conservation practice standards. The agencies are particularly interested in receiving comments on how they might most effectively and efficiently conduct this periodic review and how best to revise the list of exempt NRCS practice standards. The agencies also request comment on how they can best work together and with NRCS to provide clarity to the regulated community and the public on the exemption.

Dated: March 25, 2014.
Nancy K. Stoner,
Acting Assistant Administrator for Water, Environmental Protection Agency.
Dated: March 25, 2014.
Jo-Ellen Darcy,
Assistant Secretary of the Army (Civil Works), Department of the Army.

[FR Doc. 2014-07131 Filed 4-18-14; 8:45 am]

BILLING CODE 6560-50-P